DEPARTMENT OF AGRICULTURE

Submission for OMB Review; Comment Request

October 3, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Acreage/Crop Reporting Streamlining Initiative.

OMB Control Number: 0563-NEW.

Summary of Collection: Section 508(f)(3) of the Federal Crop Insurance Act (7 U.S.C. 1515); 7 U.S.C. 7333(b)(3); 7 CFR 457.8 and 7 CFR 1437.7(d) mandates the collection of acreage and production information from producers who wish to participate in certain USDA programs. The Farm Service Agency (FSA) and the Risk Management Agency (RMA) are implementing the Acreage/Crop Reporting Streamlining Initiative (ACRSI), a Web-based single source reporting system to establish a single reporting and data collection.

Need and Use of the Information: This new initiative will reengineer the procedures, processes, and standards to simplify commodity, acreage and production reporting by producers, eliminate or minimize duplication of information collection by multiple agencies and reduce the burden on producers, insurance agents and AIPs. Information being collected will consist of, but not be limited to: Producer name, location state, commodity name, commodity type or variety, location county, date planted, land location (legal description, FSA farm number, FSA track number, FSA field number), intended use, prevented planting acres, acres planted but failed, planted acres, and production of commodity produced. Failure to collect the applicable information could result in unearned Federal benefits being issued or producers being denied eligibility to program benefits.

Description of Respondents: Individuals and households.

Number of Respondents: 293,000.

Frequency of Responses: Reporting: One time.

Total Burden Hours: 358,925.

Charlene Parker,
Departmental Information Clearance Officer.

[FR Doc. 2011-25943 Filed 10-6-11; 8:45 am]

BILLING CODE 3410-08-P